DEPARTMENT OF HEALTH AND HUMAN SERVICES

National Institutes of Health

Government-Owned Inventions; Availability for Licensing

AGENCY: National Institutes of Health, Public Health Service, DHHS.

ACTION: Notice.

SUMMARY: The inventions listed below are owned by agencies of the U.S. Government and are available for licensing in the U.S. in accordance with 35 U.S.C. 207 to achieve expeditious commercialization of results of federally-funded research and development. Foreign patent applications are filed on selected inventions to extend market coverage for companies and may also be available for licensing.

ADDRESSES: Licensing information and copies of the U.S. patent applications listed below may be obtained by writing to the indicated licensing contact at the Office of Technology Transfer, National Institutes of Health, 6011 Executive Boulevard, Suite 325, Rockville, Maryland 20852-3804; telephone: 301/496-7057; fax: 301/402-0220. A signed Confidential Disclosure Agreement will be required to receive copies of the patent applications.

Amine Modified Random Primers for Microarray Detection

Dr. Charles Xiang and Dr. Michael J. Brownstein (NIMH), DHHS Reference No. E-098-01/0 filed 11 Apr 2001

Licensing Contact: Uri Reichman; 301/496-7736 ext. 240; e-mail: reichmau@od.nih.gov.

DNA Microarray technology has become one of the most important tools for high throughput studies in medical research, with applications in the areas of gene discovery, gene expression and mapping, and drug discovery. The technology requires the use of detection probes (cDNA probes, usually fluorescent) which are commonly made from single nucleotides using a template polynucleotide, such as mRNA. The standard methods of making cDNA probes suffer from problems related to reproducibility, and they generally result in poor incorporation of the fluorescent dye and in low sensitivity. The present invention relates to a new method for preparing cDNA probes. The new method overcomes the common problems exhibited by existing methods. The method utilizes amine modified random primers rather than single nucleotides, and results in highly efficient incorporation of the fluorescent dye in multiple sites in the probe. Coupling of the fluorescent dye to the amine residues is performed after the synthesis of the cDNA by reverse transcription. This novel procedure requires significantly less RNA than standard techniques. Licensees of the invention will be provided with primers and other reagents required to practice the invention.

Net-Trials—Clinical Trials Information System

Douglas Hageman, Dianne M. Reeves (NCI), DHHS Reference No. E-164-01/0

Licensing Contact: Dale Berkley; 301/496-7735 ext. 223; e-mail: berkleyd@od.nih.gov.

The invention is a software-based application that supports data collection, reporting, validation and quality assurance for clinical data, where the data comprise clinical observations, patient histories, physical examinations and laboratory tests and procedures. This software is a Java based application with accompanying database that could be offered via an Internet browser to registered users. The invention is intended to offer health care sites and centers that are conducting clinical research an integrated software application for patient, protocol, and research data management in a single application.

Method to Fabricate Continuous Lengths of Helical Coiled Shape Memory Wire

Theodor Kolobow (NHLBI), DHHS Reference No. E-105-00/0 filed 29 Sep 2000

Licensing Contact: Dale Berkley; 301/496-7735 ext. 223; e-mail: berkleyd@od.nih.gov.

The invention is a method and apparatus for fabricating and storing continuous lengths of helical coil shaped memory wire for use in springs, endotracheal tubes, medical stents and as reinforcement for medical tubing (e.g. catheters). The helically coiled wire is continuously formed from a special nickel-titanium wire and spooled for storage in a straightened form. When the wire is later unspooled, it will snap back into the desired helical coil form.

In one method of the invention, Nitinol wire is passed through a spring forming unit to curve the wire. The so formed coil is then loosely guided along a cylindrical mandrel, passed through a high temperature oven so that the helical coil shape will be memorized, and then uncoiled and stored in a straightened form. The method provides a very thin wire with great strength and integrity of shape that resists kinking or collapse in most medical applications.

Dated: July 27, 2001.
Jack Spiegel,
Director, Division of Technology Development and Transfer, Office of Technology Transfer, National Institutes of Health.

[FR Doc. 01-19642 Filed 8-6-01; 8:45 am]

BILLING CODE 4140-01-P